AMERICAN BATTLE MONUMENTS COMMISSION

SES Performance Review Board

AGENCY: American Battle Monuments Commission.

ACTION: Notice.

SUMMARY: Notice is hereby given of the appointment of members of the ABMC Performance Review Board.

FOR FURTHER INFORMATION CONTACT: Theodore Gloukhoff, Director of Personnel and Administration, American Battle Monuments Commission, Courthouse Plaza II, Suite 500, 2300 Clarendon Boulevard, Arlington, Virginia, 22201-3367, Telephone Number: (703) 696-6908.

American Battle Monuments Commission SES Performance Review Board;

Mr. Donald Basham, Chief, Engineering and Construction Division, Directorate of Civil Works, U.S. Army Corps of Engineers;

Mr. Stephen Coakley, Director of Resource Management, U.S. Army Corps of Engineers;

Ms. Patricia Rivers, Chief, Environmental Division, Directorate of Military Programs, U.S. Army Corps of Engineers.

Theodore Gloukhoff,
Director, Personnel and Administration.

[FR Doc. 04-6630 Filed 3-24-04; 8:45 am]

BILLING CODE 6120-01-P